NATIONAL AERONAUTICS AND SPACE ADMINISTRATION

[Notice 03-048]

NASA Advisory Committees; Renewal of NASA's Advisory Committee Charters

AGENCY: National Aeronautics and Space Administration (NASA).

ACTION: Notice of renewal and amendment of the Charters of NASA's Advisory Committees.

SUMMARY: Pursuant to sections 14(b)(1)and 9(c) of the Federal Advisory Committee Act (Pub. L. 92-463), and after consultation with the Committee Management Secretariat, General Services Administration, the Administrator of the National Aeronautics and Space Administration has determined that a renewal of eight Agency-established advisory committees is in the public interest in connection with the performance of duties imposed upon NASA by law. The structure and duties of these committees are unchanged; however, the charters have been amended to provide consistency.

The eight advisory committees are:

NASA Advisory Council

Aerospace Medicine and Occupational Health Advisory Committee

Aerospace Technology Advisory Committee

Biological and Physical Research Advisory Committee

Earth System Science and Applications Advisory Committee

Minority Business Resources Advisory Committee

Planetary Protection Advisory Committee

Space Science Advisory Committee

In addition, the Administrator has determined that renewal of the Aerospace Safety Advisory Panel is necessary and in the public interest.

FOR FURTHER INFORMATION CONTACT: Ms. June Edwards, Code I, National Aeronautics and Space Administration, Washington, DC 20546, 202/358-2046.

SUPPLEMENTARY INFORMATION: Information regarding the NASA Advisory Council and its committees is available on the world wide web at: http://www.hq.nasa.gov/office/codez/new/poladvisor.html.

June W. Edwards,
Advisory Committee Management Officer, National Aeronautics and Space Administration.

[FR Doc. 03-11242 Filed 5-6-03; 8:45 am]

BILLING CODE 7510-01-P